DEPARTMENT OF TRANSPORTATION

Federal Aviation Administration

14 CFR Part 39

[Docket No. 2000-CE-40-AD; Amendment 39-11837; AD 2000-14-51]

RIN 2120-AA64

Airworthiness Directives; Air Tractor, Inc. Models AT-501, AT-502, and AT-502A Airplanes

ACTION: Final rule; request for comments.

SUMMARY: This document publishes in the Federal Register an amendment adopting emergency Airworthiness Directive (AD) 2000-14-51. The Federal Aviation Administration (FAA) previously sent emergency AD 2000-14-51 to all known U.S. owners and operators of Air Tractor Models AT-501, AT-502, and AT-502A airplanes. This AD requires you to inspect the wing lower spar cap for cracks and modify or replace any cracked lower spar cap. This AD is the result of an accident report of an Air Tractor Model AT-502A airplane where the wing separated in flight. The actions specified by this AD are intended to detect and correct fatigue cracks in the wing lower spar cap, which could result in an in-flight separation of the wing from the airplane.

DATES: The AD becomes effective August 4, 2000, to all affected persons who did not receive emergency AD 2000-14-51, issued July 3, 2000. Emergency AD 2000-14-51 contained the requirements of this amendment and became effective immediately upon receipt.

The Director of the Federal Register approved the incorporation by reference of certain publications listed in the regulation as of August 4, 2000.

The FAA must receive any comments on this rule on or before September 15, 2000.

ADDRESSES: Submit comments in triplicate to FAA, Central Region, Office of the Regional Counsel, Attention: Rules Docket No. 2000-CE-40-AD, 901 Locust, Room 506, Kansas City, Missouri 64106. You may read comments and information related to this AD at this location between 8 a.m. and 4 p.m., Monday through Friday, except holidays.

You may get the service information referenced in this AD from Air Tractor, Incorporated, P.O. Box 485, Olney, Texas 76374. You may examine this information at FAA, Central Region, Office of the Regional Counsel, Attention: Rules Docket No. 2000-CE-40-AD, 901 Locust, Room 506, Kansas City, Missouri 64106; or at the Office of the Federal Register, 800 North Capitol Street, NW, suite 700, Washington, DC.

FOR FURTHER INFORMATION CONTACT: Rob Romero, Aerospace Engineer, FAA, Fort Worth ACO, 2601 Meacham Boulevard, Fort Worth, Texas 76193-0150; telephone: (817) 222-5102; facsimile: (817) 222-5960.

SUPPLEMENTARY INFORMATION:

Discussion

What Has Happened So Far?

The FAA has received a report of an accident of an Air Tractor Model AT-502A airplane where the wing separated in flight. Investigation revealed that the wing lower spar cap was cracked at the wing center splice connection. We surveyed the Air Tractor Models AT-501, AT-502, and AT-502A airplane fleet and discovered 2 other airplanes that have had similar cracks in the lower spar caps.

On July 3, 2000, we issued emergency AD 2000-14-51. This AD directed the following:

—Repetitively inspect each wing lower spar cap for cracks; and

—Modify or replace any cracked lower spar cap, as specified in the service information.

Accomplishment of this action is required in accordance with the procedures in Snow Engineering Co. Service Letter #197, dated June 13, 2000.

Why Is It Important To Publish This AD?

The FAA found that immediate corrective action was required, notice and opportunity for prior public comment were impracticable and contrary to the public interest, and good cause existed to make the AD effective immediately by individual letters issued on July 3, 2000, to all known U.S. operators of Air Tractor, Inc. Models AT-501, AT-502, and AT-502A airplanes. These conditions still exist, and the AD is published in the Federal Register as an amendment to section 39.13 of the Federal Aviation Regulations (14 CFR 39.13) to make it effective as to all persons.

Comments Invited

How Do I Comment on This AD?

Although this action is in the form of a final rule and was not preceded by notice and opportunity for public comment, FAA invites comments on this rule. You may submit whatever written data, views, or arguments you choose. You need to include the rule's docket number and submit your comments in triplicate to the address specified under the caption ADDRESSES. We will consider all comments received on or before the closing date specified above. We may amend this rule in light of comments received.

How Can We Communicate More Clearly With You?

The FAA is reviewing the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

The FAA specifically invites comments on the overall regulatory, economic, environmental, and energy aspects of the rule that might suggest a need to modify the rule. You may examine all comments we receive in the Rules Docket. We will file a report in the Rules Docket that summarizes each FAA contact with the public that concerns the substantive parts of this AD.

How Can I Be Sure the FAA Receives My Comment?

If you want us to acknowledge the receipt of your comments, you must include a self-addressed, stamped postcard. On the postcard, write “Comments to Docket No. 2000-CE-40-AD.” We will date stamp and mail the postcard back to you.

Regulatory Impact

How Does This AD Impact Relations Between Federal and State governments?

These regulations will not have a substantial direct effect on the States, on the relationship between the national Government and the States, or on the distribution of power and responsibilities among the various levels of government. The FAA has determined that this final rule does not have federalism implications under Executive Order 13132.

How Does This Action Involve an Emergency Situation?

The FAA determined that this is an emergency regulation that must be issued immediately to correct an unsafe condition in aircraft, and is not a significant regulatory action under Executive Order 12866. This action involves an emergency regulation under Department of Transportation (DOT) Regulatory Policies and Procedures (44 FR 11034, February 26, 1979). The FAA will prepare a final regulatory evaluation if we determine that this emergency regulation is significant under DOT Regulatory Policies and Procedures. You may obtain a copy of the evaluation (if required) from the Rules Docket.

List of Subjects in 14 CFR Part 39

Air transportation, Aircraft, Aviation safety, Incorporation by reference, Safety.

Adoption of the Amendment

Under the authority delegated to me by the Administrator, the Federal Aviation Administration (FAA) amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

2000-14-51 Air Tractor Incorporated: Amendment 39-11837; Docket No. 2000-CE-40-AD.

(a) What airplanes are affected by this AD? This AD applies to the following Air Tractor airplane models and serial numbers:

Model | Serial numbers
AT-501 | 501-002 through 501-0060 that have been converted to turboprop power.
AT-502 | 502-003 through 502-0061, except those that have been upgraded to the 8,000-pound gross weight configuration through the incorporation of Snow Engineering Co. Service Letter #80J.
AT-502A | All serial numbers.

(b) Who must comply with this AD? Anyone who wishes to operate any of the above airplanes on the U.S. Register must comply with this AD.

(c) What problem does this AD address? This AD is intended to detect and correct fatigue cracks in the wing lower spar cap, which could result in an in-flight separation of the wing from the airplane.

(d) What actions must I accomplish to address this problem? To address this problem, you must accomplish the following:

Action | When | Procedures
(1) Initial Inspection: Visually inspect the wing lower spar cap at the wing center splice connection for cracks | At whichever of the following that is applicable: (i) For the Models AT-501 and AT-502 airplanes: Upon accumulating 4,000 hours time-in-service (TIS) on each wing or within the next 10 hours TIS after the effective date of this AD, whichever occurs later; or (ii) For the Model AT-502A airplanes: Upon accumulating 3,000 hours TIS on each wing or within the next 10 hours TIS after the effective date of this AD, whichever occurs later | Accomplish this inspection in accordance with the Inspection Requirements section of Snow Engineering Co. Service Letter #197, dated June 13, 2000.
(2) Repetitive Inspections: Inspect using visual or ultrasonic methods the wing lower spar cap at center splice connection for cracks | For all affected airplanes, accomplish the repetitive inspections as follows: (i) Visually: Within 50 hours TIS after the initial inspection and thereafter at intervals not to exceed 50 hours TIS; or | Accomplish these inspections in accordance with the Inspection Requirements section of Snow Engineering Co. the Service Letter #197, dated June 13, 2000.
| (ii) Using ultrasonic methods: Within 400 hours TIS after the initial inspection and thereafter at intervals not to exceed 400 hours TIS
(3) Replace or modify any cracked wing lower spar cap, as specified in the service information | Prior to further flight after the inspection where the crack is found | Accomplish the replacement and modification as follows:
|  | (i) Replacement: Remove the wing with the cracked lower spar cap and return to Air Tractor for spar cap replacement. Immediately notify Air Tractor that you are sending the wing if the cracked spar cap can not be modified.
|  | (ii) Modification: In accordance with the TERMINATING ACTION section of Snow Engineering Co. Service Letter #197, dated June 13, 2000.
(4) Modifying each lower spar cap is considered terminating action for the repetitive inspection requirement. This modification can only be accomplished if the lower spar caps are inspected before the modification is incorporated and: | This terminating action may be accomplished at any time provided the lower spar caps are not cracked | Accomplish in accordance with the TERMINATING ACTION section of Snow Engineering Co. Service Letter #197, dated June 13, 2000.
(i) no cracks are found; or
(ii) any crack found can be removed by drilling the hole to the next larger size

(e) Can I comply with this AD in any other way? You may use an alternative method of compliance or adjust the compliance time if:

(1) Your alternative method of compliance provides an equivalent level of safety; and

(2) The Manager, Fort Worth Airplane Certification Office (ACO), approves your alternative. Submit your request through an FAA Principal Maintenance Inspector. The inspector may add comments before sending it to the Manager, Fort Worth ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Rob Romero, Aerospace Engineer, FAA, Fort Worth ACO, 2601 Meacham Boulevard, Fort Worth, Texas 76193-0150; telephone: (817) 222-5102; facsimile: (817) 222-5960.

(g) What if I need to fly the airplane to another location to comply with this AD? The FAA can issue a special flight permit under sections 21.197 and 21.199 of the Federal Aviation Regulations (14 CFR 21.197 and 21.199) to operate your airplane to a location where you can accomplish the requirements of this AD provided you comply with the following:

(1) The hopper is empty;

(2) Vne is reduced to 138 miles per hour (mph) (120 knots) indicated airspeed (IAS); and

(3) Flight into known turbulence is prohibited.

(h) Are any service bulletins incorporated into this AD by reference? Actions required by this AD must be done in accordance with Snow Engineering Co. Service Letter #197, dated June 13, 2000. The Director of the Federal Register approved this incorporation by reference under 5 U.S.C. 552(a) and 1 CFR part 51. You may get copies of this document from Air Tractor, Incorporated, P.O. Box 485, Olney, Texas 76374. You may look at copies at FAA, Central Region, Office of the Regional Counsel, 901 Locust, Room 506, Kansas City, Missouri, or at the Office of the Federal Register, 800 North Capitol Street, NW, suite 700, Washington, DC.

(i) When does this AD become effective? This AD becomes effective August 4, 2000, to all affected persons who did not receive emergency AD 2000-14-51, issued July 3, 2000. Emergency AD 2000-14-51 contained the requirements of this amendment and became effective immediately upon receipt.

Issued in Kansas City, Missouri, on July 20, 2000.
Marvin R. Nuss,
Acting Manager, Small Airplane Directorate, Aircraft Certification Service.

[FR Doc. 00-18995 Filed 7-28-00; 8:45 am]

BILLING CODE 4910-13-U